FEDERAL COMMUNICATIONS COMMISSION

47 CFR Part 64

[CG Docket No. 02-278, FCC 20-186; FR ID 122726]

Limits on Exempted Calls Under the Telephone Consumer Protection Act of 1991

AGENCY: Federal Communications Commission.

ACTION: Final rule; announcement of effective date.

SUMMARY: In this document, the Commission announces the effective date for the rules implementing section 8 of the Pallone-Thune Telephone Robocall Abuse Criminal Enforcement and Deterrence Act (TRACED Act) per the TCPA Exemptions Order, published on February 25, 2021. Specifically, compliance is required for the Telephone Consumer Protection Act (TCPA) exemptions for artificial or prerecorded voice calls made to residential telephone lines to ensure each satisfies the TRACED Act's requirements to identify who can call, who can be called, and any call limits. Compliance is also required with the limits on the number of calls that can be made under the exemptions for non-commercial calls to a residence; commercial calls to a residence that do not include an advertisement or constitute telemarketing; tax-exempt nonprofit organization calls to a residence; and Health Insurance Portability and Accountability Act (HIPPA)-related calls to a residence. Finally, callers must have mechanisms in place to allow consumers to opt out of any future calls.

DATES: The amendments to 47 CFR 64.1200(a)(3)(ii) through (v), (b)(2) and (3), and (d), published at 86 FR 11443 (Feb. 25, 2021), are effective July 20, 2023.

FOR FURTHER INFORMATION CONTACT: Richard D. Smith of the Consumer and Governmental Affairs Bureau, Consumer Policy Division, at (717) 338-2797 or Richard.Smith@fcc.gov.

SUPPLEMENTARY INFORMATION: This document announces that the Office of Management and Budget (OMB) approved the information collection requirements in § 64.1200(a)(3)(ii) through (v), (b)(2) and (3), and (d) on September 15, 2021.

The Commission publishes this document as an announcement of the effective date of the rules.

In a final rule (FCC 22-100), released on December 27, 2022, and published elsewhere in this issue of the Federal Register, the Commission amended rule 47 CFR 64.1200(a)(3) to allow callers the option of obtaining either oral or written consent if they wish to make more calls than the numerical limits on exempted artificial or prerecorded voice message calls to residential telephone lines and announced the compliance date for the amended rule.

To request materials in accessible formats for people with disabilities (Braille, large print, electronic files, audio format), send an email to fcc504@fcc.gov or call the Consumer and Governmental Affairs Bureau at (202) 418-0530 (voice).

Federal Communications Commission.
Marlene Dortch,
Secretary, Office of the Secretary.

[FR Doc. 2023-00634 Filed 1-19-23; 8:45 am]

BILLING CODE 6712-01-P